DEPARTMENT OF STATE

[Public Notice 7508]

Determination Pursuant to the Foreign Missions Act

Pursuant to the authority vested in me under the Foreign Missions Act (FMA), 22 U.S.C. 4301 et seq., and specifically 22 U.S.C. 4304(b) and (c), and by the authority vested in me under the FMA and Delegation of Authority No. 147 of September 13, 1982, and Delegation of Authority No. 198 of September 16, 1992, I hereby determine that it is reasonably necessary on the basis of reciprocity or otherwise to adjust for costs and procedures of obtaining benefits for missions of the United States abroad that the benefit of obtaining zoning approval and permit issuances associated with the construction of the People's Republic of China's diplomatic and consular facilities and residences in the United States, be predicated on the payment of surcharges, calculated by the Department's Office of Foreign Missions (OFM) to reflect the fee the U.S. Embassy in Beijing and its consular posts are required to pay the Beijing Service Bureau for Diplomatic Missions, or its regional counterparts, for the provision of services associated with the filing and approval matters pertaining to the construction of diplomatic or consular facilities in China. The authority to regulate foreign mission benefits under the FMA has been delegated to the Director of the Office of Foreign Missions (Delegation of Authority No. 214).

Dated: June 14, 2011.
Patrick J. Kennedy,
Under Secretary for Management.

[FR Doc. 2011-15626 Filed 6-21-11; 8:45 am]

BILLING CODE 4710-43-P